FEDERAL MARITIME COMMISSION

[Docket No. 24-20]

Notice of Filing of Complaint and Assignment; International Express Trucking, Inc., Complainant v. COSCO Shipping Lines Co., Ltd. and COSCO Shipping (North America) Inc., as Agent for COSCO Shipping Lines Co., Ltd., Respondents

Served: May 10, 2024.

Notice is given that a complaint has been filed with the Federal Maritime Commission (the “Commission”) by International Express Trucking, Inc. (the “Complainant”) against COSCO Shipping Lines Co., Ltd. and COSCO Shipping (North America) Inc., as agent for COSCO Shipping Lines Co., Ltd. (the “Respondents”). Complainant states that the Commission has subject matter jurisdiction over the complaint pursuant to the Shipping Act of 1984, as amended, 46 U.S.C. 40101 et seq. and personal jurisdiction over the Respondent COSCO Shipping Lines Co., Ltd. as a common carrier, as defined in 46 U.S.C. 40102(7).

Complainant is a corporation organized and existing under the laws of the State of Kansas with a principal place of business in Kansas City, Kansas and a motor carrier registered with the Federal Motor Carrier Safety Administration.

Complainant identifies Respondent COSCO Shipping Lines Co., Ltd. as a corporation organized under the laws of China with a corporate headquarters in Shanghai, China and as an ocean common carrier that conducts business in the United States through Respondent COSCO Shipping (North America) Inc. with its principal place of business located in Secaucus, New Jersey.

Complainant alleges that Respondents violated 46 U.S.C. 41102(c) and 46 CFR 545.4 and 545.5. Complainant alleges these violations arose from the assessment of per diem charges due to circumstances outside of the control of Complainant, the assessment of detention charges that did not serve an incentivizing principle, and other acts or omissions of Respondents related to these charges.

An answer to the complaint must be filed with the Commission within 25 days after the date of service.

The full text of the complaint can be found in the Commission's electronic Reading Room at https://www2.fmc.gov/readingroom/proceeding/24-20/. This proceeding has been assigned to the Office of Administrative Law Judges. The initial decision of the presiding judge shall be issued by May 12, 2025, and the final decision of the Commission shall be issued by November 26, 2025.

David Eng,
Secretary.

[FR Doc. 2024-10634 Filed 5-14-24; 8:45 am]

BILLING CODE 6730-02-P